DEPARTMENT OF HEALTH AND HUMAN SERVICES

Administration for Children and Families

Submission for OMB Review: Evaluation of the Child Welfare Capacity Building Collaborative, Part Two (OMB Number: 0970-0494)

AGENCY: Children's Bureau; Administration for Children and Families, HHS.

ACTION: Request for public comment.

SUMMARY: The Administration for Children and Families (ACF) is requesting a three-year extension of the previously approved forms that include satisfaction surveys; surveys to assess jurisdiction's foundational capacity; a workshop follow-up survey; webinar and online learning registration forms; and service-specific feedback forms and interview protocol (OMB Number: 0970-0494, expiration March 31, 2020). This request includes one new innovation survey, and requests minor changes to the webinar and online learning registration forms. Three instruments from the original approval are not included with this request. This requested extension relates to a second set of instruments, which are part of a larger data collection effort being conducted for the evaluation of the Child Welfare Capacity Building Collaborative. An extension request for the first group of evaluation instruments was submitted on April 24, 2019, (OMB Number: 0970-0484, FR, 84(79)).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following:

Office of Management and Budget, Paperwork Reduction Project, Email: OIRA_SUBMISSION@OMB.EOP.GOV,

Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, ACF Reports Clearance Officer. All requests, emailed or written, should be identified by the title of the information collection.

SUPPLEMENTARY INFORMATION:

Description: The Evaluation of the Child Welfare Capacity Building Collaborative is sponsored by the Children's Bureau, Administration for Children and Families of the U.S. Department of Health and Human Services. The Capacity Building Collaborative includes three centers (Center for States, Center for Tribes, and Center for Courts) funded by the Children's Bureau to provide national child welfare expertise and evidence-informed training and technical assistance services to state, tribal, and territorial public child welfare agencies and Court Improvement Programs (CIPs). The Centers offer a wide array of services including, but not limited to: Web-based content and resources, product development and dissemination, self-directed and group-based training, virtual learning and peer networking events, and tailored consultation and coaching. During the project period, Center services are evaluated by both Center-specific evaluations and a Cross-Center Evaluation. The Center-specific evaluations are designed to collect data on Center-specific processes and outcomes, which are used to support service delivery and continuous quality improvement. The Cross-Center Evaluation is designed to respond to a set of cross-cutting evaluation questions posed by the Children's Bureau, which examines: How and to what extent key partners across and within Centers collaborate; whether Center capacity building service interventions are evaluable; the degree to which Centers follow common protocols; what service interventions are delivered and which jurisdictions participate; how satisfied recipients are with services; what outcomes are achieved in jurisdictions receiving Center services and under what conditions are services effective; and what are the costs of services.

The Cross-Center Evaluation uses a longitudinal, mixed methods approach to evaluate Center services as they develop and mature over the study period. Multiple data collection strategies are used to efficiently capture quantitative and qualitative data to enable analyses that address each evaluation question. Cross-Center Evaluation data sources for this effort for which an extension is being sought include: (1) A foundational assessment to capture contextual data regarding the organizational health and functioning of child welfare agencies and courts; (2) a workshop follow-up survey that examines short-term and intermediate outcomes among CIPs that receive different levels of tailored services following continuous quality improvement (CQI) workshops, and (3) a tailored services satisfaction survey. Center-specific data sources for this effort include: (1) Registration forms for webinar registration and CapLearn, a learning management system; and (2) service-specific feedback forms and interviews, such as the Center for States Tailored Services interview protocol, the Center for States Innovation survey, and the Center for Courts Universal and Constituency Services survey.

Respondents: (1) Child welfare agency staff and stakeholders who directly receive services from Centers; and (2) CIP coordinators, CIP Directors, and other project staff.

Annual Burden Estimates
Instrument | Total number of respondents | Annual number of respondents | Number of responses per respondent | Average burden hours per response | Total annual burden hours
Foundational Assessment Survey | 831 | 277 | 1 | .1 | 28
CQI Workshop Follow-Up Survey | 144 | 48 | 2 | .12 | 12
Tailored Services Satisfaction Survey | 1,386 | 462 | 1 | .083 | 38
CapLearn Registration | 1,800 | 600 | 1 | .083 | 50
Webinar Registration | 13,950 | 4,650 | 1 | .03 | 140
Center for Courts: Universal and Constituency Services | 312 | 104 | 1 | .41 | 43
Center for States: Tailored Services Interviews | 180 | 60 | 1 | 1 | 60
Center for States: Assessment and Workplanning Survey | 450 | 150 | 1 | .25 | 38
Center for States: Innovation Survey | 150 | 50 | 1 | .083 | 4
Total |  |  |  |  | 413

Estimated Total Annual Burden Hours: 413.

Authority: 42 U.S.C. 5106.

Mary B. Jones,
ACF/OPRE Certifying Officer.

[FR Doc. 2019-25992 Filed 11-29-19; 8:45 am]

BILLING CODE 4184-01-P